DEPARTMENT OF HEALTH AND HUMAN SERVICES

National Institutes of Health

National Institute of Mental Health; Amended Notice of Meeting

Notice is hereby given of a change in the meeting of the National Institute of Mental Health Special Emphasis Panel, February 21, 2006, 9 a.m., to February 22, 2006, 5 p.m. Clarion Bethesda Park, 8400 Wisconsin Avenue, Bethesda, MD 20814 which was published in the Federal Register on January 27, 2006, 71 FR 4597.

The meeting will be held on February 21, 2006 for one day only at the same times and place. The meeting is closed to the public.

Dated: February 9, 2006.
Anna Snouffer,
Acting Director, Office of Federal Advisory Committee Policy.

[FR Doc. 06-1479 Filed 2-16-06; 8:45 am]

BILLING CODE 4140-01-M